DEPARTMENT OF TRANSPORTATION

Federal Aviation Administration

14 CFR Part 71

[Document No. FAA-2011-0009; Airspace Docket No. 10-AWP-20]

Amendment of VOR Federal Airways V-1, V-7, V-11 and V-20; Kona, HI

AGENCY: Federal Aviation Administration (FAA), DOT.

ACTION: Final rule; delay of effective date.

SUMMARY: This action delays the effective date for the amendment of four VOR Federal airways in the vicinity of Kona, HI; V-1, V-7, V-11 and V-20. The FAA is taking this action due to procedural changes requiring additional flight inspection.

DATES: The effective date of FR Doc. 2011-5078, published on March 10, 2011 (76 FR 13082), is delayed to 0901 UTC August 25, 2011.

FOR FURTHER INFORMATION CONTACT: Ken McElroy, Airspace, Regulations and ATC Procedures Group, Office of Mission Support Services, Federal Aviation Administration, 800 Independence Avenue, SW., Washington, DC 20591; telephone: (202) 267-8783.

SUPPLEMENTARY INFORMATION:

Background

Airspace Docket No. 10-AWP-20, published in the Federal Register on March 10, 2011, (76 FR 13082), amends VOR Federal Airways V-1, V-7 V-11 and V-20; Kona, HI. These VHF Omnidirectional Range Federal airways are being impacted by flight inspection delays due to the relocation of the VHF Omnidirectional Radio Range and Tactical Air Navigation Aid (VORTAC) thereby delaying the effective date of May 5, 2011, to August 25, 2011.

The FAA has determined that this regulation only involves an established body of technical regulations for which frequent and routine amendments are necessary to keep them operationally current. Therefore, this regulation (1) is not a significant regulatory action under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Delay of Effective Date

The effective date of the final rule, Airspace Docket 10-AWP-20, as published in the Federal Register on March 10, 2011 (76 FR 13082), is hereby delayed until August 25, 2011.

Authority: 49 U.S.C. 106(g), 40103, 40113, 40120; E.O. 10854, 24 FR 9565, 3 CFR, 1959-1963 Comp., p. 389.

Issued in Washington, DC, on March 30, 2011.
Gary A. Norek,
Acting Manager, Airspace, Regulations and ATC Procedures Group.

[FR Doc. 2011-8286 Filed 4-13-11; 8:45 am]

BILLING CODE 4910-13-P